DEPARTMENT OF ENERGY

Federal Energy Regulatory Commission

[Docket No. IC25-10-000]

Commission Information Collection Activities (Ferc-715); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-715 (Annual Transmission Planning and Evaluation Report). There are no changes to the reporting requirements with this information collection. No comments were received on the 60-day notice that ended on June 23, 2025.

DATES: Comments on the collection of information are due July 30, 2025.

ADDRESSES: Send written comments on FERC-715 to OMB through https://www.reginfo.gov/public/do/PRA/icrPublicCommentRequest?ref_nbr=202505-1902-001. You can also visit https://www.reginfo.gov/public/do/PRAMain and use the drop-down under “Currently under Review” to select the “Federal Energy Regulatory Commission” where you can see the open opportunities to provide comments. Comments should be sent within 30 days of publication of this notice.

Please submit a copy of your comments to the Commission via email to DataClearance@FERC.gov. You must specify the Docket No. (IC25-10-000) and the FERC Information Collection number (FERC-715) in your email. If you are unable to file electronically, comments may be filed by USPS mail or by hand (including courier) delivery:

• Mail via U.S. Postal Service Only: Federal Energy Regulatory Commission, Secretary of the Commission, 888 First Street NE, Washington, DC 20426.

• All other delivery methods: Federal Energy Regulatory Commission, Secretary of the Commission, 12225 Wilkins Avenue, Rockville, MD 20852.

Docket: To view comments and issuances in this docket, please visit https://elibrary.ferc.gov/eLibrary/search. Once there, you can also sign-up for automatic notification of activity in this docket.

FOR FURTHER INFORMATION CONTACT: Kayla Williams, (202) 502-6468. DataClearance@FERC.gov.

SUPPLEMENTARY INFORMATION:

Title: FERC-715, (Annual Transmission Planning and Evaluation Report).

OMB Control No.: 1902-0171.

Type of Request: Three-year extension of the FERC-715 information collection requirements with no changes to the current reporting requirements.

Acting under section 213 of the Federal Power Act ¹ and 18 CFR 141.300, FERC requires each transmitting utility that operates integrated transmission system facilities rated above 100 kilovolts (kV) to submit annually:

¹ 16 U.S.C. 824l.

• Contact information;

• Base case power flow data (if the respondent does not participate in the development and use of regional power flow data);

• Transmission system maps and diagrams used by the respondent for transmission planning;

• A detailed description of the transmission planning reliability criteria used to evaluate system performance for time frames and planning horizons used in regional and corporate planning;

• A detailed description of the respondent's transmission planning assessment practices (including, but not limited to, how reliability criteria are applied and the steps taken in performing transmission planning studies); and

• A detailed evaluation of the respondent's anticipated system performance as measured against its stated reliability criteria using its stated assessment practices.

FERC-715 enables the Commission to use the information as part of their regulatory oversight functions which includes:

• The review of rates and charges;

• The disposition of jurisdictional facilities;

• The consolidation and mergers;

• The adequacy of supply and;

• Reliability of the nation's transmission grid.

FERC-715 also helps the Commission resolve transmission disputes. Additionally, the Office of Electric Reliability (OER) uses the FERC-715 data to help protect and improve the reliability and security of the nation's bulk power system. OER oversees the development and review of mandatory reliability and security standards and ensures compliance with the approved standards by the users, owners, and operators of the bulk power system. OER also monitors and addresses issues concerning the nation's bulk power system including assessments of resource adequacy and reliability.

Without the FERC-715 data, the Commission would be unable to evaluate planned projects or requests related to transmission.

Type of Respondent: Integrated transmission system facilities rated at or above 100 kilovolts (kV).

Estimate of Annual Burden: ² The Commission estimates the total annual burden and cost ³ for this information collection as follows.

² “Burden” is the total time, effort, or financial resources expended by persons to generate, maintain, retain, or disclose or provide information to or for a federal agency. For further explanation of what is included in the information collection burden, refer to Title 5 Code of Federal Regulations 1320.3.

³ The Commission staff estimates that the industry's hourly cost for wages plus benefits is similar to the Commission's $103.00 FY 2025 average hourly cost for wages and benefits.

FERC-715, Annual Transmission Planning and Evaluation Report
Type of response | Number of respondents | Annual number of responses per respondent | Total number of responses | Average burden & cost per response | Total annual burden hours & total annual cost | Cost per respondent ($)
| (1) | (2) | (1) * (2) = (3) | (4) | (3) * (4) = (5) | (5) ÷ (1)
Annual Transmission Planning and Evaluation Report | 106 | 1 | 106 | 80 hrs.; $8,240 | 8,480 hrs.; $898,880 | $8,480

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: June 25, 2025.
Debbie-Anne A. Reese,
Secretary.

[FR Doc. 2025-12108 Filed 6-27-25; 8:45 am]

BILLING CODE 6717-01-P